DEPARTMENT OF COMMERCE

National Oceanic and Atmospheric Administration

50 CFR Parts 679 and 680

RIN 0648-BJ73

Fisheries of the Exclusive Economic Zone Off Alaska; Central Gulf of Alaska Rockfish Program; Amendment 111

AGENCY: National Marine Fisheries Service (NMFS), National Oceanic and Atmospheric Administration (NOAA), Commerce.

ACTION: Notice of availability of fishery management plan amendment; request for comments.

SUMMARY: The North Pacific Fishery Management Council (Council) submitted Amendment 111 to the Fishery Management Plan for Groundfish of the Gulf of Alaska (GOA FMP) Management Area (Amendment 111) to the Secretary of Commerce (Secretary) for review. If approved, Amendment 111 would remove the expiration date for the Central GOA Rockfish Program (Rockfish Program) and make minor administrative changes to the program. Amendment 111 is intended to promote the goals and objectives of the Magnuson-Stevens Fishery Conservation and Management Act (Magnuson-Stevens Act), the FMP, and other applicable laws.

DATES: Comments must be received no later than September 28, 2020.

ADDRESSES: You may submit comments on this document, identified by NOAA-NMFS-2020-0086, by any of the following methods:

• Electronic Submission: Submit all electronic public comments via the Federal e Rulemaking Portal. Go to www.regulations.gov/#!docketDetail;D=NOAA-NMFS-2020-0086, click the “Comment Now!” icon, complete the required fields, and enter or attach your comments.

• Mail: Submit written comments to Glenn Merrill, Assistant Regional Administrator, Sustainable Fisheries Division, Alaska Region, NMFS. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Amendment 111 to the FMP, the Environmental Assessment/Regulatory Impact Review prepared for this action (the Analysis), and the Finding of No Significant Impact prepared for this action may be obtained from www.regulations.gov.

FOR FURTHER INFORMATION CONTACT: Stephanie Warpinski, 907-586-7228 or stephanie.warpinski@noaa.gov.

SUPPLEMENTARY INFORMATION: The Council submitted Amendment 111 to the FMP to the Secretary for review. If approved, Amendment 111 would remove the expiration date for the Rockfish Program and make other administrative changes to the FMP. The regulatory amendment associated with Amendment 111 would reauthorize the Rockfish Program, allow it to continue indefinitely, and implement minor improvements to the administration and management of the program. Amendment 111 is intended to promote the goals and objectives of the Magnuson-Stevens Act, the FMP, and other applicable laws.

The Magnuson-Stevens Act requires that each regional fishery management council submit any fishery management plan amendment it prepares to NMFS for review and approval, disapproval, or partial approval by the Secretary. The Magnuson-Stevens Act also requires that NMFS, upon receiving a fishery management plan amendment, immediately publish a document in the Federal Register announcing that the amendment is available for public review and comment. This document announces that proposed Amendment 111 to the FMP is available for public review and comment.

The Council prepared, and the Secretary approved, the FMP under the authority of section 302(h)(1) and 303(b) of the Magnuson-Stevens Act, 16 U.S.C. 1801 et seq. The FMP is implemented by Federal regulations governing U.S. fisheries at 50 CFR part 679. The Council is authorized to prepare and recommend an FMP amendment for the conservation and management of a fishery covered under the FMP. The Rockfish Program would continue to provide exclusive harvesting privileges for vessels using trawl gear to harvest a specific set of rockfish species and associated species incidentally harvested to those rockfish in the Central GOA, an area from 147° W. long. to 159° W. long. The granting of exclusive harvesting is commonly called rationalization. The rockfish primary species rationalized under the Rockfish Program are northern rockfish, Pacific ocean perch, and dusky rockfish. The incidentally harvested groundfish taken in the primary rockfish fisheries and which also are rationalized under the Rockfish Program are called the secondary species. The secondary species include Pacific cod, rougheye rockfish, shortraker rockfish, and sablefish. In addition to these secondary species, the Rockfish Program allocates a portion of the halibut bycatch mortality limit annually specified for the GOA trawl fisheries to Rockfish Program participants. This allocation of bycatch mortality could be used by Rockfish Program participants during harvest activities in the fisheries rationalized under the Rockfish Program.

The reauthorized Rockfish Program would continue to assign quota share (QS) and cooperative quota (CQ) to participants for primary and secondary species, allow a participant holding an License Limitation Program (LLP) license with rockfish QS to form a rockfish cooperative with other persons, and allow holders of catcher/processor LLP licenses to opt-out of the fishery. The entry level fishery would continue for harvesters who are not eligible for the Rockfish Program and who would be directed fishing for rockfish primary species using longline gear only. Additionally, the reauthorized Rockfish Program continues to establish sideboard limits, as well as monitoring and enforcement provisions.

If approved, the current Rockfish Program would be reauthorized without a sunset date, similar to other North Pacific catch share programs. The Rockfish Program would be reviewed by the Council five years after the implementation and every five to seven years thereafter to determine if the program is functioning as intended consistent with the provisions of section 303A(i) of the Magnuson-Stevens Act.

Proposed Amendment 111 to the FMP would revise regulation associated with some administrative provisions of the Rockfish Program that were previously implemented in 2011 (76 FR 81248, December 27, 2011).

Amendment 111 would amend section 3.7.2 of the FMP to: (1) Remove the sunset date for the Rockfish Program; (2) modify sideboard limits to exempt Rockfish Program vessels from crab rationalization program sideboard limits when fishing in the Rockfish Program and remove catcher/processor Rockfish Program sideboard limits in the WGOA; (3) remove the requirement for rockfish cooperatives to submit a fishing plan when submitting an application for annual CQ; (4) clarify language that only shoreside processors taking deliveries harvested using Rockfish Program CQ must submit the Rockfish Ex-vessel Volume and Value Report; and (5) clarify regulations regarding accounting for inseason use caps when catcher/processor CQ is transferred for use by the catcher vessel sector.

NMFS is soliciting public comments on proposed Amendment 111 through the end of the comment period (see DATES). NMFS intends to publish in the Federal Register and seek public comment on a proposed rule that would implement Amendment 111 and additional regulation changes recommended by the Council, following NMFS's evaluation of the proposed rule under the Magnuson-Stevens Act. All comments received by the end of the comment period on Amendment 111, whether specifically directed to the FMP amendment or the proposed rule, will be considered in the approval/disapproval decision on Amendment 111. Comments received after that date may not be considered in the approval/disapproval decision on Amendment 111. To be certain of consideration, comments must be received, not just postmarked or otherwise transmitted, by the last day of the comment period.

Authority: 16 U.S.C. 1801 et seq.

Dated: July 23, 2020.
Jennifer M. Wallace,
Acting Director, Office of Sustainable Fisheries, National Marine Fisheries Service.

[FR Doc. 2020-16315 Filed 7-27-20; 8:45 am]

BILLING CODE 3510-22-P